FEDERAL MARITIME COMMISSION

Ocean Transportation Intermediary License Reissuances

The Commission gives notice that the following Ocean Transportation Intermediary license has been reissued pursuant to section 19 of the Shipping Act of 1984 (46 U.S.C. 40101).

License No.: 021430F.

Name: Ceva Freight, LLC.

Address: 15350 Vickery Drive, Houston, TX 77032.

Date Reissued: July 25, 2014.

Sandra L. Kusumoto,
Director, Bureau of Certification and Licensing.

[FR Doc. 2014-19357 Filed 8-14-14; 8:45 am]

BILLING CODE 6730-01-P